FEDERAL COMMUNICATIONS COMMISSION

47 CFR Part 90

[WT Docket No. 02-55; DA 03-163]

Improving Public Safety Communications in the 800 MHz Band; Consolidating the 800 MHz Industrial/Land Transportation and Business Pool Channels Order Extending Time for Filing of Comments

AGENCY: Federal Communications Commission.

ACTION: Proposed rule; extension of comments and reply comments due dates.

SUMMARY: This document addresses the Request for Extension of Time (Request) filed by the Cellular Telecommunications & Internet Association (CTIA). The Request sought additional time to respond to the public notice that sought comment on “Supplemental Comments of the Consensus Parties” filed in the 800 MHz Public Safety Interference Proceeding—WT Docket No. 02-55. The Bureau extended the comment and reply comment due dates. Extending the comment and reply comment period permits for a more thorough review of the proposal advanced in the “Supplemental Comments of the Consensus Parties” and affords additional time to prepare comments and reply comments. Such comments will enhance the record of WT Docket 02-55 and lead to an improvement in public safety operations in the 800 MHz band and will reduce interference experienced by 800 MHz public safety operators.

DATES: Comments are due on or before February 10, 2003 and Reply Comments are due on or before February 25, 2003.

ADDRESSES: Federal Communications Commission 445, 12th Street, SW., TW-A325, Washington, D.C. 20554. See Supplementary Information for filing instructions

FOR FURTHER INFORMATION CONTACT: Karen Franklin, Esq., or Michael J. Wilhelm, Esq., Policy and Rules Branch, Public Safety and Private Wireless Division at (202) 418-0680.

SUPPLEMENTARY INFORMATION: This is a summary of the Commission's Order Extending Time for Filing of Comments, DA 03-163, adopted on January 16, 2003, and released on January 16, 2003. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov.

On December 24, 2002, the “Consensus Parties” filed supplemental comments further explaining the particulars of their proposal addressing interference experienced by 800 MHz public safety systems. On January 3, 2003, the Wireless Telecommunications Bureau sought comment on the Consensus Parties supplemental comments. On January 13, 2002, the Cellular Telecommunications & Internet Association (CTIA) filed a Request for Extension of Time (Request) in the captioned proceeding, asking that the current date set for the filing of comments, February 3, 2003, and the date set for filing of reply comments, February 18, 2003, be extended by four weeks; i.e. that the date for submitting comments be changed to March 3, 2003, and the date for submitting reply comments be changed to March 18, 2003. We also note that Cinergy Corporation, Entergy Corporation and Entergy Services, Inc., Consumers Energy Company and Southern Communications Company each submitted pleadings supporting CTIA's request.

It is the policy of the Commission that extensions of time are not routinely granted. Here, CTIA requests additional time to thoroughly review the plan presented in the supplemental comments thereby to provide a more complete record in this docket. CTIA also asserts that it needs additional time to permit consultation with its members and expert personnel. It submits that time is not of the essence in this proceeding because the proposed band reconfiguration would take several years to implement. We disagree. On March 15, 2002, the Commission released the Notice of Proposed Rule Making (NPRM), [67 FR 16351, April 5, 2002], associated with this docket. In the NPRM, the Commission stated that it intended to move swiftly to achieve its objective—improving the spectrum environment for public safety operations in the 800 MHz Band. However, finding some merit in the arguments advanced by CTIA and in the supporting pleadings, we believe that a modest extension of time “ one week “ may serve to compile a more complete record. Therefore, we hereby extend the comment date to February 10, 2003 and extend the reply comment date to February 25, 2003.

Accordingly, it is Ordered that CTIA's Motion for Extension of Time is Granted to the extent expressed herein and is Denied in all other respects, and that the time for filing comments in the captioned proceeding is Extended until February 10, 2003 and the time for filing reply comments in the captioned proceeding is Extended until February 25, 2003.

Federal Communications Commission.
D'wana R. Terry,
Chief, Public Safety and Private Wireless Division, Wireless Telecommunications Bureau.

[FR Doc. 03-3275 Filed 2-6-03; 3:02 pm]

BILLING CODE 6712-01-P